DEPARTMENT OF THE INTERIOR

[RC0ZCUPCA0, 155R0680R1, RR.17549897.2015101.02]

THE UTAH RECLAMATION MITIGATION AND CONSERVATION COMMISSION

Office of the Assistant Secretary for Water and Science; Notice of Availability of the Final Environmental Impact Statement for the Provo River Delta Restoration Project

AGENCY: Central Utah Project Completion Act, Interior; Utah Reclamation Mitigation and Conservation Commission.

ACTION: Notice.

SUMMARY: The Department of the Interior, Utah Reclamation Mitigation and Conservation Commission, and the Central Utah Water Conservancy District, as Joint Lead Agencies, have prepared and made available to the public a Final Environmental Impact Statement (FEIS) that discloses the effects of the Provo River Delta Restoration Project (Project) which is a recovery action within the approved June Sucker Recovery Plan of 1999.

DATES: The Joint Lead Agencies will not make a decision on the proposed action until at least 30 days after the release of the FEIS. After the 30-day waiting period, The Department of the Interior and the Utah Reclamation Mitigation and Conservation Commission will each complete a separate Record of Decision. These documents will state the action that will be implemented and will discuss all factors leading to the decision.

ADDRESSES: Send written correspondence or requests for copies to Mr. Richard Mingo, Utah Reclamation Mitigation and Conservation Commission, 230 South 500 East Suite 230, Salt Lake City, UT 84102; or by email to rmingo@usbr.gov. The FEIS is accessible at the following Web sites: www.cupcao.gov, www.provoriverdelta.us, www.mitigationcommission.gov, and www.cuwcd.com. See the SUPPLEMENTARY INFORMATION section for locations where copies of the FEIS are available for public review.

FOR FURTHER INFORMATION CONTACT: Mr. Richard Mingo, 801-524-3146; or by email to rmingo@usbr.gov.

SUPPLEMENTARY INFORMATION:

Background

The Department of the Interior's Record of Decision for the Diamond Fork System Final Supplement to the Diamond Fork Power System Final Environmental Impact Statement, signed September 29, 1999, commits the Joint Lead Agencies to “. . . participate in the development of a Recovery Implementation Program for June sucker.” Moreover, “. . . [a]ny future development of the Bonneville Unit of CUP [Central Utah Project] will be contingent on the RIP [June Sucker Recovery Implementation Program (JSRIP)] making `sufficient progress' towards recovery of June sucker.” The Utah Reclamation Mitigation and Conservation Commission signed its own Record of Decision for the Diamond Fork System Project on November 19, 1999. The JSRIP was established in 2002, and the Joint Lead Agencies are participants. The goals of the JSRIP are to recover June sucker so that it no longer requires protection under the Endangered Species Act and allow continued operation of existing water facilities and future development of water resources for human uses within the Utah Lake Basin in Utah.

The June sucker exists naturally only in Utah Lake and spawns primarily in the lower Provo River, a Utah Lake tributary. Monitoring indicates young June sucker hatching in the lower Provo River do not survive to the adult stage due to habitat inadequacies in the lower Provo River and its interface with Utah Lake related to flow, food supply, and shelter. A compounding factor is likely predation by nonnative fishes. Dredging and channelization for flood control has eliminated the shallow, warm, complex wetland habitat at the mouth of the Provo River where it enters Utah Lake.

Proposed Federal Action

The Project would restore the lower Provo River to a more natural deltaic ecosystem. The delta and associated habitat would provide needed habitat for the recovery of the endangered June sucker. These improvements would be accomplished through the implementation of one or any combination of the action alternatives and/or options analyzed in the FEIS.

Purpose and Need for Action

The Project has been identified as an essential action needed to recover the endangered June sucker. It would restore functional habitat conditions in the lower Provo River and its interface with Utah Lake that are needed for spawning, hatching, larval transport, survival, rearing and recruitment of young into the population on a self-sustaining basis.

The purposes of the Project are to:

• Implement the specific criteria of the June Sucker Recovery Plan to restore a naturally functioning Provo River delta ecosystem essential for recruitment of June sucker;

• provide recreational improvements and opportunities associated with the Project;

• adopt flow regime targets for the lower Provo River and provide delivery of supplemental water to the lower Provo River, including additional conserved water.

The FEIS describes and analyzes the potential effects of three action alternatives, a no action alternative, and two options for the existing Provo River channel.

No Action Alternative

This alternative considers the consequences of taking “no action” with respect to the purpose and need of the Project. Under the No Action Alternative, the planned Project would not be implemented, but remaining actions in the June Sucker Recovery Plan and JSRIP would proceed as planned, subject to National Environmental Policy Act compliance as appropriate. Private lands would not be acquired for the Project.

Alternative A

Alternative A would maximize the available rearing and spawning habitat for June sucker. The acquisition boundary for this alternative encompasses 507.3 acres.

Alternative B—Agency Preferred Alternative

Alternative B was developed with substantial involvement from study area landowners and other stakeholders. It is the agency preferred alternative. It would reduce the amount of private land required for the Project and preserve the highest-value agricultural land, while still meeting June sucker spawning and rearing habitat improvement needs. The acquisition boundary for this alternative encompasses 310.3 acres.

Alternative C

Alternative C would exclude most of the existing peat wetlands located on the east and north sides of the Project area from restoration activities but, as a consequence, would be constructed on the higher-value agricultural lands. Alternative C would meet June sucker spawning and rearing habitat improvement needs for the Project by using lands to the south of these wetlands. The acquisition boundary for this alternative encompasses 298.3 acres.

Existing Provo River Channel Options

Two options were considered for use of the existing Provo River Channel. Either of the two options could be paired with any of the three action alternatives. Option 1 would leave the existing Provo River Channel open to Utah Lake, allowing for fluctuating water levels at various times of the year. Option 2 would maintain the existing channel at a relatively constant elevation by constructing a small dam at the downstream mouth of the channel near Utah Lake State Park. Under both options, an aeration system would be installed and operated to improve water quality and a minimum flow of 10 cubic feet per second would be provided to the existing Provo River channel which would be retained and managed for recreational and aesthetic purposes.

A Notice of Availability of the Draft Environmental Impact Statement (DEIS) was published in the Federal Register on February 28, 2014 (79 FR 11511). The comment period on the DEIS ended on April 29, 2014. The FEIS contains responses to all comments received and reflects comments and any additional information received during the review period.

Copies of the FEIS are available for public review at:

• Department of the Interior, Central Utah Project Completion Act Office, 302 East 1860 South, Provo, Utah 84606-7317

• Utah Reclamation Mitigation and Conservation Commission, 230 South 500 East Suite 230, Salt Lake City, Utah 84102

• Central Utah Water Conservancy District, 355 West University Parkway, Orem, Utah 84058-7303

Libraries

• Provo City Public Library, 550 North University Avenue, Provo, Utah 84601

• Salt Lake City Public Library, 210 East 400 South, Salt Lake City, Utah 84111

Dated: March 10, 2015.
Reed R. Murray,
Program Director, Central Utah Project Completion Act Office, Department of the Interior.
Dated: March 10, 2015.
Michael C. Weland,
Executive Director, Utah Reclamation Mitigation and Conservation Commission.

[FR Doc. 2015-08035 Filed 4-7-15; 8:45 am]

BILLING CODE 4332-90-P